DEPARTMENT OF DEFENSE

Department of the Air Force

Decision Memorandum Accepting Alternative Arrangements for the U.S. Air Force's Interim Beddown of the F-22 Formal Training Unit at Eglin Air Force Base, Florida

AGENCY: Department of the Air Force, DoD.

ACTION: Notice of Decision Memorandum.

SUMMARY: The Department of the Air Force announces its decision to accept alternative arrangements approved by the Council on Environmental Quality (CEQ) for the Air Force's interim beddown of the F-22 Formal Training Unit at Eglin Air Force Base, Florida.

ADDRESSES: For further information contact: Mr. Jack Bush, 703-614-0237 or jack.c.bush.civ@mail.mil

SUPPLEMENTARY INFORMATION: The text of the entire Decision Memorandum is provided as follows:

Decision Memorandum—Alternative Arrangements for Interim Beddown of F-22 Formal Training Unit

On December 21, 2019, the Department of the Air Force (Air Force) sought Council of Environmental Quality (CEQ) approval of alternative arrangements pursuant to 40 CFR 1506.11 for implementing the procedural provisions of the National Environmental Policy Act, 42 U.S.C. 4321, et seq. (NEPA), for the beddown of the Air Force's F-22 Formal Training Unit. This memorandum documents the Air Force's decision to accept the alternative procedures.

Background

NEPA: NEPA requires the Air Force to undertake an assessment of the environmental effects of its proposed actions prior to making decisions. The CEQ Regulations for Implementing the Procedural Provisions of the National Environmental Policy Act provide for situations when emergency circumstances make it necessary to make a decision and take action with potentially significant environmental impact without observing the provisions of the CEQ Regulations (40 CFR 1506.11). Specifically, the agency should consult with CEQ about alternative arrangements for actions necessary to control the immediate impacts of the emergency.

F-22 Raptor: The F-22 is the United States' premier fighter aircraft, which is essential to national security. It is a specialized “Fifth-Generation” fighter which introduces a large array of sensors that can detect both air and ground targets and share that data with other U.S. and Allied aircraft. The F-22 possesses a sophisticated sensor suite allowing the pilot to track, identify, shoot and kill air-to-air threats before being detected. Significant advances in cockpit design and sensor fusion improve the pilot's situational awareness. It is also “Low Observable,” which makes it a stealth platform that can be extremely difficult to detect. This combination means that F-22 pilots can see the enemy, but cannot be seen. The F-22's characteristics provide a synergistic effect ensuring F-22 lethality against all advanced air threats. The combination of stealth, integrated avionics and supercruise (traveling faster than the speed of sound without using afterburner) drastically shrinks surface-to-air missile engagement envelopes and minimizes enemy capabilities to track and engage the F-22. The combination of reduced observability and supercruise accentuates the advantage of surprise in a tactical environment. Maintenance of these advantages is vital as the Air Force prepares for conflicts with near-peer nations, and would also be invaluable against others emerging threats.

Nature of the Emergency: In October 2018, Hurricane Michael displaced the Air Force's only F-22 Formal Training Unit (FTU), which consists of the F-22 aircraft in the 43rd Fighter Squadron and its associated T-38 Talon aircraft, a two-seat twinjet supersonic jet trainer in the 2d Fighter Training Squadron, from its home at Tyndall Air Force Base (AFB), Florida, to Joint Base Langley-Eustis in Virginia. This temporary relocation disrupted the current student pilot full-rate Basic Course. Hurricane Michael's subsequent devastation of Tyndall AFB further aggravated deficiencies in the F-22 pilot production pipeline by rendering many of the FTU's facilities unusable for the foreseeable future. The production of trained and qualified F-22 pilots completely stopped for two months, exacerbating the current pilot shortage that the Air Force is facing. This situation will worsen unless the Air Force can restart F-22 FTU full-rate training by January 2019, because all student pilots are currently unable to perform qualifying flights. As current F-22 pilots retire or separate from the Service, the Air Force needs to produce the same numbers and more to maintain its combat readiness.

When Hurricane Michael struck Tyndall AFB, the F-22 FTU had 14 Basic Course students, two Track 2 students, and one Track 1 student enrolled in training. Track 2 is for previously qualified F-22 pilots who are no longer current, and Track 1 is for current fighter pilots who have not flown the F-22. The Track 1 student had completed a majority of his training and returned to his operational unit to complete his transition. The two Track 2 students were returned to their gaining operational units without accomplishing any training. The gaining operational units will assume the resource burden and risk to train the one Track 1 and the two Track 2 students. The 14 Basic Course students were approximately 90 days into their 160 day course. On average the students had completed only 8 of the 38 total syllabus flying sorties. The F-22 FTU restarted limited student flying at Eglin AFB on December 6, 2018, after nearly two months of no flying. Flying was limited so that operations would fall within the parameters of an existing Air Force Categorical Exclusion (CATEX), CATEX A2.3.31 in 32 CFR part 989, Appendix B, which covers relocating a small number of aircraft that does not significantly increase flying hours or number of operations. The Air Force will be unable to rely on this CATEX beyond January 31, 2019. The delays in F-22 FTU student training will delay the Basic Course pilots arriving at their operational units, negatively impacting unit manning.

The F-22 is a niche fighter community due to the small number of primary mission aircraft inventory (combat-coded aircraft), just 123 total jets. There are less than 250 Regular Air Force F-22 pilots plus an additional 40 full-time Air Reserve Component F-22 pilots actively serving. These numbers include all F-22 student pilots, operational pilots, pilots on staff and at school. The goal for active component Air Force manning in operational units by June 2019 is 100%. In fiscal year (FY) 2018, the Air Force lost 19 F-22 pilots due to retirement, separation, or promotion to Colonel (O-6). Additionally, only 6 of the 11 F-22 pilots (54%) eligible for the initial pilot bonus in FY18 accepted the bonus, indicating 5 more F-22 pilots will be leaving the Air Force soon. The small size of the F-22 community, combined with the number of pilots either lost or uncommitted, demands the continued full-scale production of F-22 Basic Course students.

Purpose and Need for Agency Action: The purpose of the proposed action is to enable the Air Force to quickly get back to full-rate Basic Course Student, Transition, and Instructor Pilot production to mitigate potentially severe adverse impacts to the Nation's military readiness. On average, the F-22 FTU trains 28 Basic Course pilots, 20 Transition Course pilots, and 9 Instructor Pilots each fiscal year. The need for the proposed action is to enable the Air Force to avoid further delay to restarting F-22 FTU operations or achieving full F-22 pilot production capacity that will have negative impacts to the entire F-22 operational force, the United States' sole fully-operational 5th Generation fighter. Delays to restarting F-22 FTU operations will create a bottleneck in fighter pilot production, generate a backlog of undergraduate pilot training graduates, and exacerbate the fighter pilot manning crisis.

Agency Proposal

Proposed Action and Alternatives: The proposed action is to restore training of replacement pilots for the F-22 FTU by January 31, 2019 at Eglin AFB, Florida until the Air Force decides on and implements a permanent beddown. While Hurricane Michael rendered many of the facilities used by the F-22 FTU inoperable, and total recovery is estimated to take between three and five years, two very important facilities for the F-22 FTU at Tyndall AFB survived Michael's destruction: The Special Access Program (SAP) flight simulators and the low observable coatings maintenance facility.

These two facilities at Tyndall AFB are approximately 89 miles away from Eglin AFB. The survival of the simulators and low observable maintenance facilities, coupled with other factors such as the substantial instructor and maintenance workforce made up of contractors, civilian employees, and Air Force Reserve and Guard personnel who are unable or unwilling to relocate, in part because they need to attend to the repair of their own homes, make nearby Eglin AFB the only near-term alternative to quickly reestablish and resume the F-22 pilot production pipeline. Further, the Air Force Reserve and Guard personnel make up twenty-five percent of the F-22 FTU's instructor pilots. Nearby Eglin AFB's main airfield (Eglin Main) has existing ramp and operating capacity for the F-22 FTU. Relocating the F-22 FTU to Eglin AFB also enables the F-22 FTU to use the same Special Use Airspace in the Gulf of Mexico that it is accustomed to training in and access to its Air Force Reserve/Guard, civilian, and contractor personnel in the region. Joint Base Langley-Eustis has no F-22 FTU instructors and lacks the robust simulators that are available at Tyndall AFB. Moving the SAP simulators at Tyndall AFB to another location is estimated to take one year and cost $22 million, and the Air Force cannot accept further delayed or degraded F-22 simulator capacity for training.

The lack of ready access to F-22 simulator capacity, F-22 weapons and tactics trainer cockpits, classified academic space, and F-22 qualified academic/simulator instructors at any location other than Tyndall AFB is the reason no other F-22 base, to include Joint Base Langley-Eustis, is a reasonable alternative compared to Eglin AFB at the current time. The Academic Simulator Building (ASB) at Tyndall AFB serves as the hub for all F-22 FTU instruction—from computer based instruction, academic lessons, 14 weapons and tactics trainer cockpits, and eight full mission simulators—the ASB support over 68% of the F-22 Basic Course syllabus. The ASB received minimal damage from Hurricane Michael and has already been restored to full operational capability. The ASB is the cornerstone to F-22 FTU operations.

Affected Environment: Currently there are 52,000 annual operations at Eglin Main. Projected annual operations for the FTU's F-22s and associated T-38s could reach 31,000. Interim basing of the F-22 FTU at Eglin AFB would therefore potentially result in a 45% increase to Eglin Main's 52,000 annual operations, including a potential nineteen-percent increase in nighttime operations.

The Air Force has preliminarily identified noise as the only projected significant environmental impact from the proposed action under the alternative arrangements. A preliminary noise analysis of adding the F-22 FTU to Eglin AFB revealed potentially significant impacts. The increase in operations from the FTU's aircraft will create a measurable increase in the 65 decibel (dB) Day-Night Average Sound Level (DNL) noise contour on the south, east, and west side of Eglin Main. Additionally, operations from the FTU's aircraft will increase the 65 dB DNL contour to the southwest and northeast which will impact populated areas and other noise sensitive environments including residential homes, schools, churches, recreational facilities, and other community facilities. The DNL noise contour increases suggest that the mission will have the potential to cause significant impacts to the areas to the west and southwest of Eglin Main due to increases of 5 dB in the 65 dB and above DNL noise contours from proposed F-22 operations.

The FTU's F-22 closed-pattern and departure operations of up to 22,000 and 4,000 annual operations, respectively, are the primary cause of projected noise increases at and around Eglin Main. Tyndall AFB will not be available as a Precision Instrument Approach Field for any closed-pattern operations until the Air Traffic Control Tower, the Radar Approach Control system, and navigational aids are restored. The Air Force's current best estimate is that these functions will not be fully restored at Tyndall AFB before July 2019. Therefore, Tyndall AFB will not be available as a potential operational mitigation for noise from F-22 closed-pattern and approach operations until that time. Ultimately, any final suite of mitigation measures for the interim basing of the F-22 FTU at Eglin AFB will have to account for other relevant non-FTU aircraft operations.

Environmental Impact Assessment and Alternative Arrangements: The Air Force will prepare an environmental impact statement (EIS) for the permanent beddown for the F-22 FTU, with scoping planned for next year. This EIS will inform the Air Force Strategic Basing Process' selection of a permanent beddown location for the F-22 FTU. The Strategic Basing Process typically involves the identification and Secretarial approval of objective basing criteria, the rank ordering of locations based on application of those criteria from an enterprise of locations, the winnowing of those locations to a small number of candidate bases, identification of preferred and reasonable locations, and the final selection of the basing location. The candidate bases constitute the reasonable alternatives for NEPA purposes, and once identified, allow for the issuance of a NEPA Notice of Intent. The Air Force cannot delay F-22 pilot production until these actions are completed without irreparable harm to the National Security Strategy posture. Therefore, in accordance with the provisions of 40 CFR 1506.11, the Air Force initiated consultation with the CEQ and requested alternative arrangements for the interim basing of the F-22 FTU at Eglin AFB, Florida.

Alternative Arrangements: The Air Force accepts the alternative arrangements prescribed below, as approved by CEQ's letter of December 21, 2018, for the interim beddown of the F-22 FTU at Eglin AFB.

Environmental Assessment: The Air Force will undertake immediately the preparation of an environmental assessment of the interim beddown. The Air Force will strive to complete the draft EA by February 28, 2019, and issue it for public review and comment for at least 30 days. The draft EA will identify any proposed mitigation measures that would address any significant impacts identified in the draft EA. The Air Force will complete the final EA and issue a Record of Decision no later than April 30, 2019. The Record of Decision will set forth the practicable mitigation measures that the Air Force will implement for the interim beddown in accordance with 40 CFR 1505.2 and 1505.3.

Environmental Impact Statement: The Air Force will undertake an EIS for the permanent beddown of the F-22 FTU. The EIS will include an assessment of the reasonable alternatives for the permanent beddown. The Air Force will issue a Notice of Intent to prepare an EIS as soon as possible, but no later than April 1, 2019. The Air Force will develop a timeline for the NEPA process, including all milestones and authorization processes, and submit the timeline to CEQ for its review and approval. To ensure that NEPA compliance proceeds as expeditiously as possible, and consistent with Executive Order 13807 on Establishing Discipline and Accountability in the Environmental Review and Permitting Process for Infrastructure, the Air Force will develop a permitting timetable that identifies milestones for this environmental review and authorization process. The Air Force will provide its timetable to CEQ within one month of the date of CEQ's letter and update the timetable monthly to ensure that the environmental review process is completed as expeditiously as is practicable, with a goal of completion of a Record of Decision approximately 2 years (or less) from the date of the Notice of Intent to prepare an EIS. The Air Force's Federal Register notice for the EIS preparation will describe these alternative arrangements and their relationship to the EIS for long-term F-22 beddown decisions.

Public Participation Measures: The alternative arrangements include the following public participation measures that supplement the proposal set forth in the Air Force letter. The Air Force will provide notice of these alternative arrangements and submit this Decision Memorandum for publication in the Federal Register within 10 business days. The Air Force also will publish notice of these alternative arrangements in local newspapers likely to reach interested parties including the Northwest Florida Daily News and the Bay Beacon.

Additionally, the Air Force will provide notice of these alternative arrangements to the interested parties listed in Appendix A of the 2014 Final Supplemental Environmental Impact Statement. The notices will specifically seek input on the interim and final beddown, and include an offer to meet with Air Force representatives and CEQ to discuss the alternative arrangements.

The Air Force will reconstitute and reconvene the Noise Committee with representatives of the counties and municipalities of Walton, Okaloosa, and Santa Rosa Counties. The Air Force will use the Noise Committee to gather information for the development of the environmental assessment and environmental impact statement.

The Air Force will provide CEQ with copies of any notices made in accordance with these alternative arrangements and post notices online at https://www.eglin.af.mil/.

Other Measures: The Air Force and CEQ will convene monthly meetings to discuss the status of the NEPA process with interested components of the Executive Office of the President. At the conclusion of the alternative arrangements and no later than 2 years from the date of the Notice of Intent to prepare an EIS, the Air Force will provide a report to CEQ on the use of the alternative arrangements that reviews the value and effectiveness of these arrangements. The Air Force will provide notice of the report in the Federal Register, local newspapers, including those specified above, and online at https://www.eglin.af.mil/.

Henry Williams,
Civ, DAF, Acting Air Force Federal Register Liaison Officer.

[FR Doc. 2019-00052 Filed 1-10-19; 8:45 am]

BILLING CODE 5001-10-P